DEPARTMENT OF JUSTICE

Notice of Lodging of Proposed Consent Decree Under the Resource Conservation and Recovery Act

On June 30, 2020, the Department of Justice lodged a proposed Consent Decree with the United States District Court for the Southern District of New York in a lawsuit entitled United States v. Chestnut Petroleum Distributors, Inc., et al., Civil Action No. 19 Civ. 3904 (PHM) (JCM).

In this action, the United States sought, as provided under Subtitle I of the Resource Conservation and Recovery Act and its related regulations (the “Underground Storage Tank Regulations”), penalties and injunctive relief for the failure of defendants Chestnut Petroleum Distributors, Inc., CPD Energy Corp., CPD NY Energy Corp., Chestnut Mart of Gardiner, Inc., Chestnut Marts, Inc., Greenburgh Food Mart, Inc., Middletown Food Mart, Inc., and NJ Energy Corp. to comply with the Underground Storage Tank Regulations at twenty gas stations within the Southern District of New York and adjoining districts. The proposed Consent Decree resolves the United States' claims and requires defendants to pay a civil penalty of $187,500 and comply with various injunctive measures.

The publication of this notice opens the public comment period on the proposed Consent Decree. Comments should be addressed to Jeffrey Bossert Clark, Assistant Attorney General, Environment and Natural Resources Division, and should refer to United States v. Chestnut Petroleum Distributors, Inc., et al., Civil Action No. 19 Civ. 3904 (PHM) (JCM), D.J. Ref. 90-7-1-11162. All comments must be submitted no later than 30 days after the publication date of this notice. Comments may be submitted either by email or by mail:

To submit comments: | Send them to:
By email | pubcomment-ees.enrd@usdoj.gov.
By mail | Jeffrey Bossert Clark, Assistant Attorney General, U.S. DOJ—ENRD, P.O. Box 7611, Washington, DC 20044-7611.

During the public comment period, the Consent Decree may be examined and downloaded at this Justice Department website: http://www.usdoj.gov/enrd/Consent_Decrees.html. We will provide paper copies of the Consent Decree upon written request and payment of reproduction costs. Please email your request and payment to: Consent Decree Library, U.S. DOJ-ENRD, P.O. Box 7611, Washington, DC 20044-7611.

Please enclose a check or money order for $4.75 (25 cents per page reproduction cost) payable to the United States Treasury.

Henry S. Friedman,
Assistant Section Chief, Environmental Enforcement Section, Environment and Natural Resources Division.

[FR Doc. 2020-14568 Filed 7-6-20; 8:45 am]

BILLING CODE 4410-15-P